DEPARTMENT OF COMMERCE

National Oceanic and Atmospheric Administration

[I.D. 011005D]

Proposed Information Collection; Comment Request; Economic Data Collection for the Atlantic Wreckfish Fishery

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 15, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Jim Waters, Department of Commerce, NOAA, National Marine Fisheries Service, 101 Pivers Island Road, Beaufort, NC 28516-9722, (252-728-8710).

SUPPLEMENTARY INFORMATION:

I. Abstract

The National Marine Fisheries Service (NMFS) proposes to collect economic, sociocultural and demographic data through a one-time census about commercial fishing for wreckfish (Polyprion Americanus) along the U.S. south Atlantic coast. The wreckfish fishery has been managed with Individual Transferable Quotas (ITQs) since 1992. Few shareholders currently fish for wreckfish, yet they have not sold or leased their shares. This project will address why shareholders chose not to participate in the wreckfish fishery, where and for what species they did fish, and why they did not sell or lease their unused quota to generate revenue even though they did not fish for wreckfish. Equally important is to determine if the process of developing an ITQ system contributed to the rapid increase in fishing effort in the early 1990s. The results of this inquiry could offer important lessons for economists, fishery managers and others researching the appropriateness of applying ITQ systems in other fisheries in the southeast.

II. Method of Collection

Data will be collected through personal interviews with approximately 50 past and current shareholders in the ITQ management system for the wreckfish fishery. Interviews will include coded and open-ended questions to inquire about experiences with the fishery and the ITQ management program. All interviews will be tape-recorded and transcribed. Participation in the study will be voluntary.

III. Data

OMB Number: None.

Form Number: None.

Type of Review: Regular submission.

Affected Public: Business and other for-profit organizations.

Estimated Number of Respondents: 50.

Estimated Time Per Response: 2 hours.

Estimated Total Annual Burden Hours: 100 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 7, 2005.
Gwellnar Banks,
Management Analyst, Office of the Chief Information Officer.

[FR Doc. 05-845 Filed 1-13-05; 8:45 am]

BILLING CODE 3510-22-S